DEPARTMENT OF DEFENSE

Office of the Secretary

Department of Defense Military Family Readiness Council (MFRC); Notice of Federal Advisory Committee Meeting

AGENCY: Department of Defense.

ACTION: Notice.

SUMMARY: The Department of Defense is publishing this notice to announce a Federal advisory committee meeting of the Department of Defense Military Family Readiness Council. This meeting will be open to the public.

DATES: Tuesday, October 7, 2014, from 1:30 p.m. to 3:30 p.m.

ADDRESSES: Pentagon Conference Center B6 (escorts will be provided from the Pentagon Metro entrance).

FOR FURTHER INFORMATION CONTACT: Ms. Melody McDonald or Ms. Yuko Whitestone, Office of the Deputy Assistant Secretary of Defense (Military Community & Family Policy), 4800 Mark Center Drive, Alexandria, VA 22350-2300, Room 3G15. Telephones (571) 372-0880; (571) 372-0876 and/or email: OSD Pentagon OUSD P-R Mailbox Family Readiness Council osd.pentagon.ousd-p-r.mbx.family-readiness-council@mail.mil.

SUPPLEMENTARY INFORMATION: This meeting is being held under the provisions of the Federal Advisory Committee Act of 1972 (5 U.S.C. Appendix, as amended), the Government in the Sunshine Act of 1976 (5 U.S.C. 552b, as amended), and 41 CFR 102-3.150. The purpose of the Council meeting is to review and make recommendations to the Secretary of Defense regarding policy and plans; monitor requirements for the support of military family readiness by the Department of Defense; evaluate and assess the effectiveness of the military family readiness programs and activities of the Department of Defense.

Pursuant to 5 U.S.C. 552b and 41 CFR 102-3.140 through 102-3.165, this meeting is open to the public, subject to the availability of space. Persons desiring to attend may contact Ms. Melody McDonald at 571-372-0880 or email OSD Pentagon OUSD P-R Mailbox Family Readiness Council osd.pentagon.ousd-p-r.mbx.family-readiness-council@mail.mil no later than 5:00 p.m., on Tuesday, September 30, 2014 to arrange for escort inside the Pentagon to the Conference Room area.

Pursuant to 41 CFR 102-3.105(j) and 102-3.140, and section 10(a)(3) of the Federal Advisory Committee Act of 1972, interested persons may submit a written statement for consideration by the Council. Persons desiring to submit a written statement to the Council must notify the point of contact listed in FOR FURTHER INFORMATION CONTACT no later than 5:00 p.m., on Tuesday, September 30, 2014.

The purpose of this meeting is to continue discussion of Military Family Readiness Council focus items for 2014.

Tuesday, October 7, 2014 Meeting agenda

Welcome & Administrative Remarks.

Introduction and discussion of Fiscal Year 2015 Military Family Readiness Council focus items.

Presentation, deliberation and voting on final recommendations for Fiscal Year 2014.

Closing Remarks.

Note: Exact order may vary.

Dated: September 8, 2014.
Aaron Siegel,
Alternate OSD Federal Register Liaison Officer, Department of Defense.

[FR Doc. 2014-21668 Filed 9-10-14; 8:45 am]

BILLING CODE 5001-06-P